DEPARTMENT OF COMMERCE

International Trade Administration

[A-570-910]

Circular Welded Carbon-Quality Steel Pipe From the People's Republic of China: Continuation of Antidumping Duty Order

AGENCY: Enforcement and Compliance, Formerly Import Administration, International Trade Administration, Department of Commerce.

SUMMARY: As a result of the determinations by the Department of Commerce (the “Department”) and the International Trade Commission (the “ITC”) that revocation of the antidumping duty order on circular welded carbon-quality steel pipe (“circular welded pipe”) from the People's Republic of China (“PRC”) would likely lead to a continuation or recurrence of dumping and material injury to an industry in the United States, the Department is publishing a notice of continuation of the antidumping duty order.

DATES: Effective Date: December 4, 2013.

FOR FURTHER INFORMATION: Erin Kearney or Howard Smith, AD/CVD Operations, Office IV, Enforcement and Compliance, International Trade Administration, U.S. Department of Commerce, 14th Street and Constitution Avenue NW., Washington, DC 20230; telephone: 202-482-0167 or 202-482-5193, respectively.

SUPPLEMENTARY INFORMATION:

Background

On June 3, 2013, the Department initiated the first sunset review of the antidumping duty order on circular welded pipe from the PRC, pursuant to section 751(c) of the Tariff Act of 1930, as amended (the “Act”).¹ As a result of its review, the Department determined that revocation of the antidumping duty order on circular welded pipe from the PRC would likely lead to continuation or recurrence of dumping and notified the ITC of the magnitude of the margins likely to prevail should the order be revoked.² On November 22, 2013, the ITC published its determination, pursuant to section 751(c) of the Act, that revocation of the antidumping duty order on circular welded pipe from the PRC would likely lead to a continuation or recurrence of material injury to an industry in the United States within a reasonably foreseeable time.³

¹ See Initiation of Five-Year (“Sunset”) Review, 78 FR 33063 (June 3, 2013).

² See Circular Welded Carbon-Quality Steel Pipe From the People's Republic of China: Final Results of the Expedited First Sunset Review of the Antidumping Duty Order, 78 FR 61335 (October 3, 2013).

³ See Circular Welded Carbon-Quality Steel Pipe From China, 78 FR 70069 (November 22, 2013).

Scope of the Order

The merchandise subject to the order is circular welded pipe. The pipe products that are the subject of the order are currently classifiable in Harmonized Tariff Schedule of the United States (“HTSUS”) statistical reporting numbers 7306.30.10.00, 7306.30.50.25, 7306.30.50.32, 7306.30.50.40, 7306.30.50.55, 7306.30.50.85, 7306.30.50.90, 7306.50.10.00, 7306.50.50.50, 7306.50.50.70, 7306.19.10.10, 7306.19.10.50, 7306.19.51.10, and 7306.19.51.50. However, the product description, and not the HTSUS classification, is dispositive of whether merchandise imported into the United States falls within the scope of the order.⁴

⁴ For full scope language, see Notice of Antidumping Duty Order: Circular Welded Carbon Quality Steel Pipe From the People's Republic of China, 73 FR 42547 (July 22, 2008).

Continuation of the Order

As a result of the determinations by the Department and the ITC that revocation of the antidumping duty order would likely lead to a continuation or recurrence of dumping and material injury to an industry in the United States, pursuant to section 751(d)(2) of the Act, the Department hereby orders the continuation of the antidumping order on circular welded pipe from the PRC. U.S. Customs and Border Protection will continue to collect antidumping duty cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year sunset review and this notice are in accordance with section 751(c) of the Act and published pursuant to section 777(i)(1) of the Act and 19 CFR 351.218(f)(4).

Dated: November 26, 2013.
Paul Piquado,
Assistant Secretary for Enforcement and Compliance.

[FR Doc. 2013-29028 Filed 12-3-13; 8:45 am]

BILLING CODE 3510-DS-P